ENVIRONMENTAL PROTECTION AGENCY

[OPP-34225H; FRL-6802-6]

Diazinon; Products Cancellation Order

AGENCY: Environmental Protection Agency (EPA).

ACTION: Notice.

SUMMARY: This notice announces EPA's cancellation order for the product and use cancellations as requested by several companies (Prentiss Inc., Unicorn Laboratories, Micro Flo Company, Agriliance, Diall Chemical Company, Nu-Method Pest Control Products, Lilly Miller Brands and Virbac Corporation, hereafter collectively referred to as the “EUP Registrants”) that hold the registrations of pesticide End-Use Products (EUPs) containing the active ingredient diazinon and accepted by EPA, pursuant to section 6(f) of the Federal Insecticide, Fungicide, and Rodenticide Act (FIFRA). This order follows up an August 1, 2001, notice of receipt from the companies listed above, of requests for cancellations and or amendments of their diazinon product registrations to terminate all indoor uses, certain agricultural uses and certain outdoor non-agricultural uses. In the August 1, 2001 notice, EPA indicated that it would issue an order granting the voluntary product and use registration cancellations unless the Agency received any substantive comment within the comment period that would merit its further review of these requests. The Agency did not receive any comments that affected the Agency's intention to grant the EUP registrants' request to cancel product and use registrations. Accordingly, EPA hereby issues in this notice a cancellation order granting the requested cancellations. Any distribution, sale, or use of the products subject to this cancellation order is only permitted in accordance with the terms of the existing stocks provisions of this cancellation order.

DATES: The cancellations are effective September 20, 2001.

FOR FURTHER INFORMATION CONTACT: By mail: Ben Chambliss, Special Review and Reregistration Division (7508C), Office of Pesticide Programs, Environmental Protection Agency, 1200 Pennsylvania Ave., NW., Washington, DC 20460; telephone number: (703) 308-8174; fax number: (703) 308-7042; e-mail address: chambliss.ben@epa.gov.

SUPPLEMENTARY INFORMATION:

I. General Information

A. Does this Action Apply to Me?

This action is directed to the public in general. You may be potentially affected by this action if you manufacture, sell, distribute, or use diazinon products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet homepage at http://www.epa.gov/. To access this document, on the homepage select “Laws and Regulations,” “Regulations and Proposed Rules,” and then look up the entry for this document under the “Federal Register — Environmental Documents.” You can also go directly to the Federal Register listings at http://www.epa.gov/fedrgstr/. To access information about the risk assessment for diazinon, go to the homepage for the Office of Pesticide Programs or go directly to http://www.epa.gov/pesticides/op/diazinon.htm.

2. In person. The Agency has established an official record for this action under docket control number OPP 34225H. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Receipt of Requests to Cancel and Amend Registrations to Delete Uses

A. Background

In letters dated April 25 and May 29, 2001, from Prentiss Inc.; May 29, 2001, from Unicorn Laboratories; May 30, 2001, from Micro Flo Company; May 31, 2001, from Agriliance; June 1, 2001, from Micro Flo Company; and June 1, 2001, from Diall Chemical Company, Inc., these registrants of pesticide products containing diazinon requested that the registrations of their diazinon products be amended to terminate all indoor uses, certain agricultural uses, and any other uses that the registrants do not wish to maintain. The requests also included deletions of outdoor non-agricultural uses from the labeling of certain end-use products so that such products would be labeled for agricultural uses only. Similarly, in letters dated May 21, 2001 from Nu-Method Pest Control Products; May 22, 2001 from Lilly Miller Brands; and May 23, 2001 from Virbac Corporation, these three registrants requested voluntary cancellation of the registrations for their diazinon end-use products that bear directions for indoor use and/or certain outdoor non-agricultural uses, and any other uses that the registrants do not wish to maintain. EPA announced its receipt of these above-mentioned cancellation requests in a Federal Register notice dated August 1, 2001.

These requested cancellations and amendments are consistent with the requests in December 2000 by the manufacturers of diazinon technical products, and EPA's approval of such requests, to terminate all indoor uses and certain agricultural uses from their diazinon product registrations, because of EPA's concern with the potential exposure risk, especially to children, associated with diazinon containing products. The indoor uses and agricultural uses subject to cancellation are identified in the following List.

List — Uses Requested for Termination

1. Indoor uses: Pet collars, or inside any structure or vehicle, vessel, or aircraft or any enclosed area, and/or on any contents therein (except mushroom houses), including food/feed handling establishments, greenhouses, schools, residences, museums, sports facilities, stores, warehouses and hospitals.

2. Agricultural uses: Alfalfa, bananas, Bermuda grass, dried beans, dried peas, celery, red chicory (radicchio), citrus, clover, coffee, cotton, cowpeas, cucumbers, dandelions, forestry (ground squirrel/rodent burrow dust stations for public health use), kiwi, lespedeza, parsley, parsnips, pastures, peppers, potatoes (Irish and sweet), sheep, sorghum, squash (winter and summer), rangeland, Swiss chard, tobacco, and turnips.

In today's Cancellation Order, EPA is approving the registrants' requested cancellations and amendments of the their diazinon end-use products registrations to terminate all uses identified in the List.

B. Requests for Voluntary Cancellation of End-Use Products

Nu-Method Pest Control Products, Lilly Miller Brands and Virbac Corporation, have submitted requests for voluntary cancellation of some of its registrations for end-use pesticide products containing diazinon. The end-use product registrations for which cancellation was requested are identified in the following Table 1. None of the products listed in Table 1 are registered for use on agricultural crops.

Table 1. — End-Use Product Registration Cancellation Requests
Company | Reg. No. | Product
Lilly Miller Brands | 802-444 | Miller's Multi-Use Diazinon Insect Spray
| 802-556 | Lilly Miller 5% Diazinon Granules
Virbac Corporation | 2382-94 | Protection 150 Reflecting Flea and Tick Collar for Cats
| 2382-95 | Protection Plus Flea and Tick Collar for Cats
| 2382-96 | Protection 150 Reflecting Flea and Tick Collar for Dogs
| 2382-97 | Protection Plus 150 Flea and Tick Collar for Dogs
| 2382-98 | Protection 150 Flea and Tick Collar for Cats
| 2382-99 | Protection 150 Flea and Tick Collar for Dogs
| 2382-105 | Protection 300 Flea and Tick Collar for Dogs
Nu-Method Pest Control | 6911-5 | NU-Mrk NU-Method Ant & Roach Killer Products, Inc.

EPA did not receive any comments expressing a need of diazinon products for indoor use nor any comments relative to the proposed cancellation of the products listed in Table 1. Accordingly, the Agency is issuing an order in this notice canceling the registrations identified in Table 1, as requested by Lilly Miller Brands, Virbac Corporation, and Nu-Method Pest Control Products, Inc.

C. Requests for Voluntary Amendments of End-Use Product Registrations to Terminate Certain Uses

Pursuant to section 6(f)(1)(A) of FIFRA, the EUP Registrants submitted requests to amend a number of their diazinon end-use product registrations to terminate the uses identified in the List, or any other uses as specified for each product in the August 1, 2001 Diazinon 6(f) notice and reiterated in Table 2 below. The registrations for which amendments to terminate specific uses were requested are identified in the following Table 2:

Table 2. — End-Use Product Registrations Requests for Amendments to Terminate Uses
Company | Reg. No. | Product | Uses Canceled
Prentiss Inc. | 655-456 | Prentox Diazinon 50W | Insecticide: Beans (lima, pole, snap; succulent only), cucumbers, parsley, parsnips, peas (succulent only), peppers, potatoes (Irish), squash (summer and winter), sweet potatoes, swiss chard, turnips, grasslands, ditch banks, roadsides, wastelands, non-crop areas, barrier strips, lawn pest control (excluding sod farms and golf courses), livestock insects (sheep ticks Keds and lice), livestock structures (fly control in barns and animal sleeping quarters except dairy barns, milk rooms and poultry houses), residual sprays, bait sprays, sprinkling can application, and insect control on ornamentals grown indoors in nurseries.
| 655-459 | Prentox Diazinon AG500 | Insecticide: Beans (lima, pole, snap; succulent only), cucumbers, parsley, parsnips, peas (succulent only), peppers, potatoes (Irish), squash (summer and winter), sweet potatoes, swiss chard, turnips, grasslands, ditch banks, roadsides, wastelands, non-crop areas, barrier strips, lawn pest control, and nuisance pests in outside areas.
Agriliance | 9779-210 | Diazinon 4 AG | Beans, cabbage, cucumbers, parsley, parsnips, peas, peppers, potatoes, squash (summer and winter), sweet potatoes, swiss chard, turnips, and lawns/other outside areas.
Drexel Chemical Company | 19713-91 | Diazinon | Insecticide: Lawns (any turf sites), barrier strips, ditch banks, non-crop areas, roadsides, wastelands, and nuisance pests in outside areas.
| 19713-492 | Diazinon 50 WP | Lawns (any turf sites), barrier strips, ditch banks, non-crop areas, roadsides, wastelands, and nuisance pests in outside areas.
Unicorn Laboratories | 28293-199 | Unicorn Diazinon 5G | Celery
| 28293-230 | Unicorn 25EC Diazinon | Almonds
| 28293-239 | Unicorn Diazinon 14G | Beans, cabbage, celery, cucumbers, parsley, peas, peppers, potatoes, squash, sweet potatoes, swiss chard, and turnips.
Diall Chemical Company Inc. | 34822-6 | DI-ALL Paint | Insecticide: Farm buildings (including dairy barns and milk parlors), warehouses, office buildings, theaters, schools, hotels, motels, factories and outbuildings.
Micro-Flo Company | 51036-70 | Diazinon 14G | Beans, parsley, peppers, potatoes (Irish), squash (Winter and Summer), swiss chard, and turnips.
| 51036-71 | Diazinon AG 500 | Beans, parsley, parsnips, peppers, potatoes (Irish), squash (Summer and Winter), swiss chard, turnips, livestock structures and lawns.
| 51036-93 | Diazinon 5G AG | Beans, celery, cucumber, parsley, peas, peppers, potatoes, squash (Summer and Winter), sweet potatoes, swiss chard and turnips.
| 51036-108 | Diazinon 50 WP | Beans, parsley, parsnips, peppers, potatoes (Irish), squash (Summer and Winter), swiss chard, turnips, livestock structures and lawns.

III. Cancellation Order

Pursuant to section 6(f) of FIFRA, EPA hereby approves the requested diazinon product registration cancellations and amendments to terminate all indoor uses and certain agricultural uses, as identified in the List, and all other uses (including specific outdoor non-agricultural uses) identified for deletion in the August 1 Diazinon 6(f) notice. Accordingly, the Agency orders that the diazinon end-use product registrations identified in Table 1 are hereby canceled. The Agency also orders that all of the uses identified in the List, and all other uses (including specific outdoor non-agricultural uses) identified for deletion in Table 2 are hereby canceled from the end-use product registrations identified in Table 2. Any distribution, sale, or use of existing stocks of the products identified in Tables 1 and 2 in a manner inconsistent with the terms of this Order or the Existing Stock Provisions in Unit IV of this notice will be considered a violation of section 12(a)(2)(K) of FIFRA and/or section 12(a)(1)(A) of FIFRA.

IV. Existing Stocks Provisions

For purposes of this Order, the term “existing stocks” is defined, pursuant to EPA's existing stocks policy (56 FR 29362, June 26, 1991), as those stocks of a registered pesticide product which are currently in the United States and which have been packaged, labeled, and released for shipment prior to the effective date of the amendment or cancellation. The existing stocks provisions of this Cancellation Order are as follows:

1. Distribution or sale of products bearing instructions for use on agricultural crops. The distribution or sale of existing stocks by the registrant of any product listed in Table 2 that bears instructions for use on the agricultural crops identified in the List will not be lawful under FIFRA 1 year after the effective date of the cancellation order, except for the purposes of shipping such stocks for export consistent with section 17 of FIFRA or for proper disposal. Persons other than the registrant may continue to sell or distribute the existing stocks of any product listed in Table 2 that bears instructions for any of the agricultural uses identified in the List after the effective date of the cancellation order.

2. Distribution or sale of products bearing instructions for use on outdoor non-agricultural sites. The distribution or sale of existing stocks by the registrant of any product listed in Table 1 or 2 that bears instructions for use on outdoor non-agricultural sites will not be lawful under FIFRA 1 year after the effective date of the cancellation order, except for the purposes of shipping such stocks for export consistent with section 17 of FIFRA or for proper disposal. Persons other than the registrant may continue to sell or distribute the existing stocks of any product listed in Table 1 or 2 that bears instructions for use on outdoor non-agricultural sites after the effective date of the cancellation order.

3. Distribution or sale of products bearing instructions for use on indoor sites. The distribution or sale of existing stocks by the registrant of any product listed in Table 1 or 2 that bears instructions for use at or on any indoor sites (except mushroom houses), shall not be lawful under FIFRA as of the effective date of the cancellation order, except for the purposes of shipping such stocks for export consistent with section 17 of FIFRA or for proper disposal.

4. Retail and other distribution or sale of existing stock of products for indoor use. The retail sale of existing stocks by any person other than the registrants of products listed in Table 1 or 2 bearing instructions for any indoor uses except mushroom houses will not be lawful under FIFRA after December 31, 2002, except for the purposes of shipping such stocks for export consistent with section 17 of FIFRA or for proper disposal.

5. Use of existing stocks. EPA intends to permit the use of existing stocks of products listed in Table 1 or 2 until such stocks are exhausted, provided such use is in accordance with the existing labeling of that product.

Lists of Subjects

Environmental protection, Memorandum of Agreement, Pesticides and pests.

Dated: September 7, 2001.
Jack E. Housenger,
Acting Director, Special Review and Reregistration Division, Office of Pesticide Programs.

[FR Doc. 01-23460 Filed 9-19-01; 8:45 a.m.]

BILLING CODE 6560-50-S